NATIONAL SCIENCE FOUNDATION

Special Emphasis Panel in Engineering Education and Centers; Notice of Meeting

In accordance with the Federal Advisory Committee Act (Pub. L. 92-463, as amended), the National Science Foundation announces the following meeting:

Name: Special Emphasis Panel in Engineering Education and Centers (#173).

Date & Time: May 24, 2001, 8:30 a.m.-5:30 p.m.

Place: National Science Foundation, Room 730, 4201 Wilson Boulevard, Arlington, VA.

Type of Meeting: Closed.

Contact Person: Mr. Alex Schwarzkopf, Program Manager, Engineering Education and Centers Division, National Science Foundation, Room 585, 4201 Wilson Blvd., Arlington, VA 22230.

Purpose of Meeting: To provide advice and recommendations concerning proposals submitted to NSF for financial support.

Agenda: To review and evaluate proposals submitted to the Industry/University Cooperative Research Centers Program as part of the selection process for awards.

Reason for Closing: The proposals being reviewed include information of a proprietary or confidential nature, including technical information; financial data, such as salaries; and personal information concerning individuals associated with the proposals. These matters are exempt under 5 U.S.C. 552b(c)(4) and (6) of the Government in the Sunshine Act.

Reason for Late Notice: Conflicting schedules of members and the necessity to proceed with review of proposals.

Dated: May 15, 2001.
Susanne Bolton,
Committee Management Officer.

[FR Doc. 01-12586 Filed 5-17-01; 8:45 am]

BILLING CODE 7555-01-M